DEPARTMENT OF DEFENSE

Department of Army

Proposed Collection; Common Request

AGENCY: Office of the Administrative Assistant to the Secretary of the Army, (OAA-RPA), DoD.

ACTION: Notice.

In compliance with Section 3506(c)(2)(A) of the Paperwork Reduction Act of 1995, the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by September 6, 2005.

ADDRESSES: Written comments and recommendations on the proposed information collection should be sent to Department of the Army, Surface Deployment and Distribution Command, 661 Sheppard Place, Fort Eustis, Virginia, 23604 ATTN: SDDC-SDG3-GD-CS (Pamela Mainor). Consideration will be given to all comments received within 60 days of the publication of this notice.

FOR FURTHER INFORMATION CONTACT: To request more information on this proposed information collection or to obtain a copy of the proposal and associated collection instruments, please write to the above address, or call Department of the Army Reports Clearance Officer at (703) 602-0636.

Title, Associated Form, and OMB Number: Transportation Discrepancy Report; DD Form X513; OMB Control Number 0702-TBD.

Type of Request: New.

Number of Respondents: 1434.

Responses Per Respondent: 1.

Annual Responses: 1434.

Annual Burden Per Response: 1 hour.

Annual Burden Hours: 1434.

Needs and Uses: DD Form X513 is essential for documenting any loss, damage, or other discrepancy, which may result from the movement of Government freight by commercial transportation companies (carriers). The form is ordinarily completed by the Federal agencies for which the transportation service is provided. However, in a small minority of cases (Approximately 9%), contractor personnel acting for the government may be required to complete this form.

Affected Public: Business or other for-profit; Federal Government.

Frequency: On occasion.

SUPPLEMENTARY INFORMATION: As insurers of goods transported under the bill of lading contract, carriers are responsible, to the extent provided by law, for the delivery of goods as tendered by or for the Government.

Dated: June 27, 2005.
Patricia L. Toppings,
Alternate OSD Federal Register Liaison Officer, Department of Defense.

[FR Doc. 05-13195 Filed 7-5-05; 8:45 am]

BILLING CODE 5001-06-M